NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: January 27, 2004; 8 a.m.-7:30 p.m. (open 10:45-12, 1:30-5); January 28, 2004: 8 a.m.-4 p.m. (open 9-10:30).

Place: California Institute of Technology, Pasadena, CA.

Type of Meeting: Part open.

Contact Person: Dr. Maija Kukla, Program Director, Materials Research Science and Engineering Centers, Division of Materials Research, Room 1065, National Science Foundation, 4201 Wilson Boulevard, Arlington, VA 22230, Telephone (703) 292-4940.

Purpose of Meeting: To provide advice and recommendations concerning progress of Materials Research Science and Engineering Center.

Agenda:

January 27, 2004—Open for Director's overview of Materials Research Science and Engineering Center and presentations.

January 27 & 28, 2004—Closed to review and evaluate progress of Materials Research Science and Engineering Center.

Reason for Closing: The work being reviewed may include information of a proprietary or confidential nature, including technical information; financial data, such as salaries and personal information concerning individuals associated with the proposals. These matters are exempt under 5 U.S.C. 552b(c), (4) and (6) of the Government in the Sunshine Act.

Dated: January 6, 2004.
Susanne Bolton,
Committee Management Officer.

[FR Doc. 04-433 Filed 1-8-04; 8:45 am]

BILLING CODE 7555-01-M